DEPARTMENT OF HEALTH AND HUMAN SERVICES

Administration for Children and Families

Submission for OMB Review; Comment Request

Title: Cross-Site Evaluation of Children's Bureau Child Welfare Implementation Centers and National Resource Centers.

OMB No.: New Collection.

Description: The Cross-Site Evaluation of the Child Welfare Implementation Centers (IC) and National Resource Centers (NRC) is sponsored by the Children's Bureau, Administration for Children and Families of the U.S. Department of Health and Human Services and involves the conduct of a five-year, cross-site evaluation that examines the effectiveness of the ICs' and NRCs' activities and service provision and the relation of their training and technical assistance activities to organizational and systems change in State and Tribal child welfare systems. Additionally, the evaluation will examine the degree to which networking, collaboration, information sharing, adherence to common principles, and common messaging occurs across all members of the Children's Bureau Training and Technical Assistance (T/TA) Network, which is designed to improve child welfare systems and to support States and Tribes in achieving sustainable, systemic change that results in greater safety, permanency, and well-being for children, youth, and families. The Children's Bureau desires to assess the quality and effectiveness of the technical assistance it supports, and several of these programs and projects are required to be evaluated, including those funded under Section 105 of The Child Abuse Prevention and Treatment Act, as amended [42 U.S.C. 5106]. Beginning in fiscal year (FY) 2010, the T/TA Network will comprise a group of 30 T/TA providers funded entirely or partially by the Children's Bureau through grants, contracts, and interagency agreements.

The cross-site evaluation uses a mixed-method, longitudinal approach to examine the ICs (funded in FY 2009) and a new cohort of NRCs (funded in FY 2010). Proposed data collection methods are a longitudinal telephone survey of State child welfare directors (or their designees) and Tribal Child Welfare/Social Service Directors (or their designees), a Web-based survey of State and Tribal T/TA recipients, and aggregation of outputs from a Web-based technical assistance tracking system (OneNet) that will be used by the five ICs and 11 NRCs. A Web-based survey will be also administered to members of the T/TA Network. Data collected through these instruments will be used by the Children's Bureau to evaluate the effectiveness of technical assistance delivered to State, local, Tribal, and other publicly administered or publicly supported child welfare agencies and family and juvenile courts and the overall functioning of the T/TA Network.

Respondents: Respondents to two of the survey instruments will be State and Tribal governments. Respondents to the third survey will be private institutions, including universities, not-for-profit organizations, and private companies. Private institutions, including universities and not-for-profit organizations will be respondents to the forms in the OneNet tracking system.

Annual Burden Estimates
Instrument | Number of respondents | Number of responses per respondent | Average burden hours per response | Total burden hours
OneNet Form: General T/TA Event | 16 | 26 | 0.25 | 104
OneNet Form: NRC T/TA Work Plan | 11 | 45 | 0.20 | 99
OneNet Form: NRC T/TA Close-Out | 11 | 45 | 0.08 | 39.60
OneNet Form: NRC T/TA Activity | 11 | 528 | 0.20 | 1,161.60
OneNet Form: Implementation Project Monthly Report | 5 | 62.40 | 0.17 | 53.04
Agency Results Survey | 74 | 1 | 1 | 74
Training and Technical Assistance (T/TA) Activity Survey | 160 | 3 | 0.25 | 120
Web-Based Network Survey | 30 | 1 | 0.25 | 7.50
OneNet Form: Implementation Project Information | 5 | 5.40 | 0.50 | 13.50
OneNet Form: Implementation Project T/TA Activity | 5 | 280.80 | 0.33 | 463.32

Estimated Total Annual Burden Hours: 2,135.56.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Attn: Desk Officer for the Administration for Children and Families.

Dated: February 4, 2010.
Robert Sargis,
Reports Clearance Officer.

[FR Doc. 2010-2804 Filed 2-8-10; 8:45 am]

BILLING CODE 4184-01-P